DEPARTMENT OF EDUCATION

Office of Special Education and Rehabilitative Services; Overview Information: Special Education—Research and Innovation To Improve Services and Results for Children With Disabilities—Research on Accessible Reading Assessments; Notice Inviting Applications for New Awards for Fiscal Year (FY) 2004

Catalog of Federal Domestic Assistance (CFDA) Number: 84.324F

Dates: Applications Available: July 2, 2004.

Deadline for Transmittal of Applications: August 23, 2004.

Eligible Applicants: State educational agencies (SEAs); local educational agencies (LEAs); institutions of higher education (IHEs); other public agencies; nonprofit private organizations; outlying areas; freely associated States; and Indian tribes and tribal organizations.

Estimated Available Funds: $4,800,000.

Estimated Average Size of Awards: $960,000.

Maximum Award: We will reject any application that proposes a budget exceeding $1,000,000 for a single budget period of 12 months unless the application involves a consortium of organizations, or any other group of eligible parties that meets the requirements of 34 CFR 75.127-75.129, and a compelling rationale is provided. The Assistant Secretary for the Office of Special Education and Rehabilitative Services may change the maximum amount through a notice published in the Federal Register.

Estimated Number of Awards: 5.

Note: The Department is not bound by any estimates in this notice.

Project Period: Up to 60 months.

Full Text of Announcement

I. Funding Opportunity Description

Purpose of Program: To produce, and advance the use of, knowledge to improve the results of education and early intervention for infants, toddlers, and children with disabilities.

Priority: In accordance with 34 CFR 75.105(b)(2)(iv), this priority is from allowable activities specified in the statute (see sections 661(e)(2) and 672 of IDEA).

Absolute Priority: For FY 2004 this priority is an absolute priority. Under 34 CFR 75.105(c)(3) we consider only applications that meet this priority.

This priority is: Research on Accessible Reading Assessments.

Background: The purpose of this priority is to support research to make large-scale assessments of reading proficiency more accessible for students who have disabilities that affect reading. This research will contribute to the ultimate goal of making large-scale assessments more “universally designed”, i.e., designed from the beginning to be accessible and valid for the widest possible range of students, including students with disabilities.

Note: For additional background information and a complete list of the references for this priority, applicants are encouraged to review this material in the application package for this competition.

Priority: This priority is for projects to conduct systematic programs of research and development to make large-scale assessments of reading proficiency more accessible for students who have disabilities that affect reading. Projects may focus on one or more of the categories of disabilities that affect reading. Given a sufficient number of approved high quality applications, the Department intends to fund projects that, in combination, address the assessment of students with a full range of disabilities that affect reading, including particularly blindness and other visual impairments, deafness and other hearing impairments, learning disabilities, and mental retardation. The Department intends to fund at least one project that addresses the assessment of students working toward alternate achievement standards, as defined in 34 CFR Part 200 as amended by the regulations published in the Federal Register, December 9, 2003, pp. 68698-68708.

Each project must complete the goals described below:

Goal One: In collaboration with the other projects funded under this priority, formulate a definition of the construct of “reading proficiency” that can be used by all of the projects as a basis for research and development for accessible large-scale tests of reading proficiency (as discussed above) that (consistent with the requirements of the No Child Left Behind Act of 2001 (NCLB)) provide (a) a valid measure of proficiency against academic standards, and (b) individual interpretive, descriptive, and diagnostic reports for the full range of students with disabilities that affect reading. In collaboration with the other projects funded under this priority: (1) Develop documentation that supports the definition on the basis of research and theory, including reports of the National Reading Panel and the Rand Corporation's report on reading comprehension; ¹ (2) analyze the definition in relation to current State and national academic standards, and the characteristics of the populations under study by the projects; (3) obtain input from relevant outside groups, such as experts in assessment, reading, special education, disabilities; and (4) refine the definition as needed on the basis of input from external sources and research conducted under this priority.

¹ Snow, C. E. (2002). Reading for understanding: toward a research and development program in reading comprehension. Santa Monica, CA: RAND Corporation.

Goal Two: Conduct a program of research on the assessment of reading proficiency (as defined under Goal One) to determine the effects of various factors of test development, design, and administration (item development, field test methods, presentation modes, formats, schedules, etc.) on accessibility, validity, and comparability for students with disabilities that affect reading. The program of research must be designed to produce an empirical base, in combination with other available research findings, for developing accessible reading assessments that can provide (a) a valid measure of proficiency against academic standards, and (b) individual interpretive, descriptive, and diagnostic reports for students with disabilities that affect reading. The research may include investigations of technology-based assessments, vertical scaling, and other approaches for allowing tests to accommodate wide variations in student proficiency and other characteristics.

The research must employ sound methodologies. It cannot simply be designed to demonstrate performance increments for students with disabilities, but must be designed to demonstrate increased access while validity and comparability are maintained. One possible research design is based on experimental research on assessment accommodations. This design is based on an “interaction” model in which accommodations produce a “differential boost” in the performance of students with specific disabilities in comparison to the performance of students without those disabilities who also receive the accommodations.² This research is discussed in several recent summaries.³ For the purposes of this priority, this design may be adapted to test specific features of accessible reading assessments. Other research approaches, for example research based on item response theory or factor analysis, may also be important components of the program of research supported under this priority. For all research designs, the project must provide sufficient sample sizes and research rigor to produce conclusive findings.

² Phillips, S.E. (1994). High-stakes testing accommodations: Validity versus disabled rights. Applied Measurement in Education, 7, 93-120.

³ Chiu, C., & Pearson, P.D. (June 1999). Synthesizing the Effects of Test Accommodations for Special Education and Limited English Proficiency Students. Paper presented at the National Conference on Large Scale Assessment (Snowbird, UT June 1999). American Institutes for Research in the Behavioral Sciences, Palo Alto, CA.

Sireci, S.G., Li, S., & Scarpati, S. (2003). The effects of test accommodations on test performance: A review of the literature. Center for Educational Assessment Research, Report No. 485. Amherst, MA: School of Education, University of Massachusetts Amherst.

Thompson, S., Blount, A., & Thurlow, M. (2002). A summary of research on the effects of test accommodations: 1999 through 2001 (Technical Report 34). Minneapolis, MN: University of Minnesota, National Center on Educational Outcomes.

Goal Three: In collaboration with the other projects funded under this priority, develop research-based principles and guidelines for making large-scale assessments of reading proficiency more accessible for students who have disabilities that affect reading. The principles and guidelines must address all phases of test design and development, including definitions of constructs, development of items and formats, field testing and revision, etc. To the greatest possible degree, the principles and guidelines developed under this goal must be compatible extensions of the Standards for Educational and Psychological Testing.⁴ These principles and guidelines must be in formats that allow for their use in developing and evaluating assessments, as well as in focusing future research.

⁴ American Educational Research Association, American Psychological Association, & National Council on Measurement in Education. (1999). Standards for Educational and Psychological Testing. Washington, DC.

Goal Four: In collaboration with the other projects funded under this priority, and based on the definition formulated under Goal One and the research conducted under Goal Two, develop instruments and/or methods for assessing reading proficiency that are suitable for large-scale administration for school accountability purposes, that are accessible to students who have disabilities that affect reading, that maintain validity and comparability of scores, and that can provide (a) a valid measure of proficiency against academic standards, and (b) individual interpretive, descriptive, and diagnostic reports for the full range of students with disabilities that affect reading.

In collaboration with the other projects funded under this priority, a project must conduct a large-scale field test on the instruments and methods to determine the degree to which they provide for accessibility, validity, and comparability. The projects must provide sufficient sample size and diversity, as well as sound data collection and analysis procedures to ensure conclusive field test findings.

It is anticipated that the projects will complete Goals 1 through 3 during the first three years of operation, and that Goal 4 will be completed during years 4 and 5. In deciding whether to continue each project for the fourth and fifth years for the completion of Goal 4, we will consider the requirements of 34 CFR 75.253(a), and in addition—

(a) The recommendation of a review team consisting of experts selected by the Secretary, which review will be conducted during the first half of the project's third year in Washington DC. Projects must budget for staff travel associated with this review;

(b) The timeliness and effectiveness with which all requirements of the negotiated cooperative agreement have been or are being met by the project;

(c) The degree to which the project is making a positive contribution to providing research findings for making large-scale assessments of reading proficiency more accessible for students who have disabilities that affect reading;

(d) The degree to which the project is collaborating effectively with other projects funded under this priority and producing a cohesive set of products and findings; and

(e) The quality of plans and arrangements for conducting the field test called for under Goal 4.

General Requirements: Each project must—

(a) Form a general advisory committee on which representation is invited from the National Center for Education Statistics; the National Assessment Governing Board; the National Center on Educational Outcomes; the National Center for Research on Evaluation, Standards, and Student Testing; organizations representing test developers, reading educators, and researchers; disability groups; and other appropriate projects and organizations. The primary purposes of this advisory committee are to review and advise on the general plans of the project and to provide liaison with significant stakeholder groups;

(b) Form a technical advisory committee consisting of experts in reading, assessment, and research. The purpose of this technical advisory committee is to review and provide technical input on the specific research and development plans and activities of the project;

(c) Disseminate the project's findings. Dissemination must include the use of a Web site that meets all relevant standards for accessibility;

(d) Budget for a two-day Project Directors' meeting in Washington, DC during each year of the project; and

(e) In addition to the annual two-day Project Directors' meeting in Washington, DC provided for in paragraph (d), budget for another annual two-day trip to Washington, DC to meet with Federal officials and the other projects funded under this priority, to discuss plans, findings, and methods of dissemination.

Waiver of Proposed Rulemaking

Under the Administrative Procedure Act (APA) (5 U.S.C. 553) the Department generally offers interested parties the opportunity to comment on proposed priorities. However, section 661(e)(2) of IDEA makes the public comment requirements in the APA inapplicable to the absolute priority in this notice.

Program Authority: 20 U.S.C. 1461 and 1472.

Applicable Regulations: The Education Department General Administrative Regulations (EDGAR) in 34 CFR parts 74, 75, 77, 80, 81, 82, 84, 85, 86, 97, 98, and 99.

Note: The regulations in 34 CFR part 86 apply to IHEs only.

II. Award Information

Type of Award: Cooperative agreement.

Estimated Available Funds: $4,800,000.

Estimated Average Size of Awards: $960,000.

Maximum Award: We will reject any application that proposes a budget exceeding $1,000,000 for a single budget period of 12 months unless the application involves a consortium of organizations, or any other group of eligible parties that meet the requirements of 34 CFR 75.127-75.129, and a compelling rationale is provided. The Assistant Secretary for the Office of Special Education and Rehabilitative Services may change the maximum amount through a notice published in the Federal Register.

Estimated Number of Awards: 5.

Note: The Department is not bound by any estimates in this notice.

Project Period: Up to 60 months.

III. Eligibility Information

1. Eligible Applicants: SEAs; LEAs; IHEs; other public agencies; nonprofit private organizations; outlying areas; freely associated States; and Indian tribes and tribal organizations.

2. Cost Sharing or Matching: This competition does not involve cost sharing or matching.

3. Other: General Requirements—(a) The projects funded under this notice must make positive efforts to employ and advance in employment qualified individuals with disabilities (see section 606 of IDEA).

(b) Applicants and grant recipients funded under this notice must involve individuals with disabilities or parents of individuals with disabilities in planning, implementing, and evaluating the projects (see section 661(f)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: www.ed.gov/pubs/edpubs.html or you may contact ED Pubs at its e-mail address: edpubs@inet.ed.gov.

If you request an application from ED Pubs, be sure to identify this competition as follows: CFDA Number 84.324F.

Individuals with disabilities may obtain a copy of the application package in an alternative format (e.g., Braille, large print, audiotape, or computer diskette) by contacting the person listed under For FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, the letters of support, or the appendix. However, you must include all of the application narrative in Part III.

We will reject your application if—

• You apply these standards and exceed the page limit; or

• You apply other standards and exceed the equivalent of the page limit.

3. Submission Dates and Times:

Applications Available: July 2, 2004.

Deadline for Transmittal of Applications: August 23, 2004. The dates and times for the transmittal of applications by mail or by hand (including a courier service or commercial carrier) are in the application package for this competition. The application package also specifies the hours of operation of the e-Application Web site.

We do not consider an application that does not comply with the deadline requirements.

4. Intergovernmental Review: This program is not subject to Executive Order 12372 and the regulations in 34 CFR part 79.

5. Funding Restrictions: We reference regulations outlining funding restrictions in the Applicable Regulations section of this notice.

6. Other Submission Requirements: Instructions and requirements for the transmittal of applications by mail or by hand (including a courier service or commercial carrier) are in the application package for this competition.

Application Procedures

Note: Some of the procedures in these instructions for transmitting applications differ from those in EDGAR (34 CFR 75.102). Under the APA (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications: We are continuing to expand our pilot project for electronic submission of applications to include additional formula grant programs and additional discretionary grant competitions. The Special Education—Research and Innovation To Improve Services and Results for Children With Disabilities Program—Research on Accessible Reading Assessments competition—CFDA Number 84.324F is one of the competitions included in the pilot project. If you are an applicant under the Special Education—Research and Innovation To Improve Services and Results for Children With Disabilities Program—Research on Accessible Reading Assessments competition, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 245-6272.

• We may request that you give us original signatures on other forms at a later date.

Application Deadline Date Extension in Case of System Unavailability: If you elect to participate in the e-Application pilot for the Special Education—Research and Innovation To Improve Services and Results for Children With Disabilities Program—Research on Accessible Reading Assessments competition and you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-GRANTS help desk at 1-888-336-8930.

You may access the electronic grant application for the Special Education—Research and Innovation To Improve Services and Results for Children With Disabilities Program—Research on Accessible Reading Assessments competition at: http://e-grants.ed.gov.

V. Application Review Information

Selection Criteria: The selection criteria for this competition are listed in 34 CFR 75.210 of EDGAR. The specific selection criteria to be used for this competition are in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department is currently developing indicators and measures that will yield information on various aspects of the quality of the Research and Innovation To Improve Services and Results for Children With Disabilities program. Included in these indicators and measures will be those that assess the quality and relevance of newly funded research projects. Two indicators will address the quality of new projects. First, an external panel of eminent senior scientists will review the quality of a randomly selected sample of newly funded research applications, and the percentage of new projects that are deemed to be of high quality will be determined. Second, because much of the Department's work focuses on questions of effectiveness, newly funded applications will be evaluated to identify those that address causal questions and then to determine what percentage of those projects use randomized field trials to answer the causal questions. To evaluate the relevance of newly funded research projects, a panel of experienced education practitioners and administrators will review descriptions of a randomly selected sample of newly funded projects and rate the degree to which the projects are relevant to practice.

Other indicators and measures are still under development in areas such as the quality of project products and long-term impact. Data on these measures will be collected from the projects funded under this notice. Grantees will also be required to report information on their projects' performance in annual reports to the Department (EDGAR, 34 CFR 75.590).

We will notify grantees of the performance measures once they are developed.

VII. Agency Contact

FOR FURTHER INFORMATION CONTACT: Dave Malouf, U.S. Department of Education, 400 Maryland Avenue, SW., room 4078, Potomac Center Plaza, Washington, DC 20202-2550. Telephone: (202) 245-7427.

If you use a telecommunications device for the deaf (TDD), you may call the Federal Information Relay Service (FIRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 205-8207.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: June 28, 2004.
Troy R. Justesen,
Acting Deputy Assistant Secretary for Special Education and Rehabilitative Services.

[FR Doc. 04-14987 Filed 6-30-04; 8:45 am]

BILLING CODE 4000-01-P